DEPARTMENT OF STATE

[Public Notice 5339]

30-Day Notice of Proposed Information Collection: Forms DS-100, DS-100E, DS-101, DS-101E, DS-102, DS-102E, & DS-104, DS-104E, Diplomatic Motor Vehicle Applications for: Vehicle Registration, Title, & Replacement Plates, OMB Control Number 1405-0072

ACTION: Notice of request for public comments and submission to OMB of proposed collection of information.

SUMMARY: The Department of State has submitted the following information collection request to the Office of Management and Budget (OMB) for approval in accordance with the Paperwork Reduction Act of 1995.

• Title of Information Collection: Diplomatic Motor Vehicle Applications for: Vehicle Registration, Title, & Replacement Plates OMB Control Number: 1405-0072.

• OMB Control Number: 1405-0072.

• Type of Request: Revision of a Currently Approved Collection.

• Originating Office: Diplomatic Security/Office of Foreign Missions (DS/OFM/VTC/V).

• Form Numbers: DS-100, DS-100E, DS-101, DS-101E, DS-102, DS-102E, & DS-104, DS-104E.

• Respondents: Foreign missions that have personnel assigned to the United States: diplomatic agents, consular officers, administrative and technical staff, specified official representatives of foreign governments to international organizations, and their dependents.

• Estimated Number of Respondents: 20,270.

• Estimated Number of Responses: 20,270.

• Average Hours per Response: .5 hours (30 minutes).

• Total Estimated Burden: 10,135.

• Frequency: On occasion.

• Obligation to Respond: Required to obtain or retain a benefit.

DATES: Submit comments to the Office of Management and Budget (OMB) for up to 30 days from March 9, 2006.

ADDRESSES: Direct comments and questions to Alex Hunt, the Department of State Desk Officer in the Office of Information and Regulatory Affairs at the Office of Management and Budget (OMB), who may be reached at 202-395-7860. You may submit comments by any of the following methods:

• E-mail: ahunt@omb.eop.gov. You must include the DS form number, information collection title, and OMB control number in the subject line of your message.

• Mail (paper, disk, or CD-ROM submissions): Office of Information and Regulatory Affairs, Office of Management and Budget, 725 17th Street, NW., Washington, DC 20503.

• Fax: 202-395-6974.

FOR FURTHER INFORMATION CONTACT: Direct requests for additional information regarding the collection listed in this notice, including requests for copies of the proposed information collection and supporting documents, to Attn: Jacqueline Robinson, Diplomatic Motor Vehicle Director, Office of Foreign Missions, 3507 International Place, NW., State Annex 33, Washington, DC 20522-3302, who may be reached at 202-895-3528 or RobinsonJD@state.gov.

SUPPLEMENTARY INFORMATION: We are soliciting public comments to permit the Department to:

• Evaluate whether the proposed information collection is necessary for the proper performance of our functions.

• Evaluate the accuracy of our estimate of the burden of the proposed collection, including the validity of the methodology and assumptions used.

• Enhance the quality, utility, and clarity of the information to be collected.

• Minimize the reporting burden on those who are to respond, including the use of automated collection techniques or other forms of technology.

Abstract of proposed collection:

The operation of a motor vehicle in the United States by foreign mission personnel is a benefit under the Foreign Mission Act, 22 U.S.C. 4301 et seq. The U.S. Department of State Registration and Title application forms (DS-100, DS-100E, DS-101, DS-101E, DS-102, DS-102E, & DS-104, DS-104E) are the means by which foreign missions in the United States request the registration, titling, and issuance of replacement license plates for motor vehicles owned/operated by foreign missions, foreign diplomatic and consular personnel, as well as specified official representatives of foreign governments to international organizations in the United States, and their dependents.

Methodology:

This collection is submitted by all foreign missions in paper format on one of four forms; the information is then entered into an electronic database, maintained and utilized by the Office of Foreign Missions to administer the benefit. Electronic versions of DS-100 and DS-101 (DS-100E and DS-101E) were introduced in May 2005 to a few foreign missions to test and develop an electronic submission option. Electronic versions of the DS-102 and DS-104 (DS-102E and DS-104E) have been developed and will be implemented in early 2006. To facilitate the collection of information in a more systematic and efficient manner, the Office of Foreign Missions will continue to develop the database to support an end-to-end electronic submission process, bearing in mind as well that utilization of electronic submissions by individual missions is dependent on the status of their own systems.

Dated: February 9, 2006.
John P. Gaddis,
Deputy Assistant Secretary, Bureau of Diplomatic Security, Office of Foreign Missions, Department of State.

[FR Doc. E6-3357 Filed 3-8-06; 8:45 am]

BILLING CODE 4710-43-P